FARM CREDIT ADMINISTRATION

Privacy Act of 1974; System of Records

AGENCY: Farm Credit Administration.

ACTION: Notice of a modified system of records.

SUMMARY: Pursuant to the provisions of the Privacy Act of 1974, notice is hereby given that the Farm Credit Administration (FCA or Agency) is amending an existing system of records, FCA-13—Correspondence Files—FCA. The Correspondence Files—FCA system is used to track incoming and outgoing correspondence and to draft correspondence and other memoranda. The Agency is updating the notice to include more details in the categories of individuals and categories of records in the system, and to make administrative updates and non-substantive changes to conform to the SORN template requirements prescribed in the Office of Management and Budget (OMB) Circular No. A-108.

DATES: You may send written comments on or before September 14, 2020. FCA filed an amended System Report with Congress and the Office of Management and Budget on May 29, 2020. This notice will become effective without further publication on September 22, 2020 unless modified by a subsequent notice to incorporate comments received from the public.

ADDRESSES: We offer a variety of methods for you to submit your comments. For accuracy and efficiency, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA Website: http://www.fca.gov. Click inside the “I want to . . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records. The substantive changes and modifications to the currently published version of FCA-13—Correspondence Files—FCA include:

1. Identifying the records in the system as unclassified.

2. Updating the system location to reflect the system's current location.

3. Updating the system managers to reflect the system's current owner.

4. Expanding and clarifying the categories of individuals and categories of records to ensure they are consistent with the intended purpose for which the records are collected.

5. Clarifying the record source categories.

6. Revising the retention and disposal section to reflect updated guidance from the National Archives and Records Administration.

7. Revising the safeguards section to reflect updated cybersecurity guidance and practices.

Additionally, non-substantive changes have been made to the notice to align with the latest guidance from OMB.

The amended system of records is: FCA-13—Correspondence Files—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

System Name and Number:

FCA-13—Correspondence Files—FCA.

Security Classification:

Unclassified.

System Location:

Office of Congressional and Public Affairs, Farm Credit Administration, 1501 Farm Credit Drive, McLean, VA 22102-5090.

System Manager:

Director, Office of Congressional and Public Affairs, Farm Credit Administration, 1501 Farm Credit Drive, McLean, VA 22102-5090.

Authority for Maintenance of the System:

12 U.S.C. 2243, 2252.

Purposes of the System:

We use information in this system of records to track incoming and outgoing correspondence and to draft correspondence and other memoranda.

Categories of Individuals Covered by the System:

Individuals who have correspondence with FCA and the Farm Credit System Insurance Corporation (FCSIC) and current and former FCA and FCSIC employees assigned to process review and/or respond to the correspondence.

Categories of Records in the System:

This system contains incoming and outgoing correspondence and internal reports and memoranda, which are part of a general correspondence file maintained by the office(s) involved. Additionally, information about the correspondence is captured, including, but not limited to: (1) The type of correspondence (letter, fax, email); (2) dates and times received or sent; (3) name and office of FCA or FCSIC employee assigned to the correspondence; and (4) basic contact information (name, address, email address, phone number) related to the correspondence.

Record Source Categories:

Persons corresponding with FCA and FCISC and FCA and FCSIC employees.

Routine uses of Records Maintained in the System, Including Categories of Users and Purposes of Such Uses:

See the “General Statement of Routine Uses” (64 FR 8175).

Disclosure to consumer reporting agencies: None.

Policies and Practices for Storage of Records:

Records are maintained in file folders and on a computerized database.

Policies and Practices for Retrieval of Records:

Records are retrieved by name.

Policies and Procedures for Retention and Disposal of Records:

Records are retained in accordance with the National Archives and Records Administration's General Records Schedule, and with the FCA Comprehensive Records Schedule.

Administrative, Technical, and Physical Safeguards:

FCA implements multiple layers of security to ensure access to records is limited to those with a need-to-know in support of their official duties. Records are physically safeguarded in a secured environment using locked file rooms, file cabinets, or locked offices and other physical safeguards. Computerized records are safeguarded through use of user roles, passwords, firewalls, encryption, and other information technology security measures. Only personnel with a need-to-know in support of their duties have access to the records.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedure:

Address inquiries about this system of records to: Privacy Act Officer, Farm Credit Administration, McLean, VA 22102-5090.

Exemptions Promulgated for the System:

None.

History:

Federal Register Vol. 64, No. 100/Tuesday, May 25, 1999 page 21875.

Vol. 70, No. 183/Thursday, September 22, 2005, page 55621.

Dated: August 10, 2020.
Dale Aultman,
Secretary, Farm Credit Administration Board.

[FR Doc. 2020-17737 Filed 8-12-20; 8:45 am]

BILLING CODE 6705-01-P